DEPARTMENT OF TRANSPORTATION

Office of the Secretary

14 CFR Part 382

[Docket No. DOT-OST-2018-0068]

RIN No. 2105-AE63

Traveling by Air With Service Animals

AGENCY: Office of the Secretary (OST), U.S. Department of Transportation (DOT).

ACTION: Denial of request for extension of comment period.

SUMMARY: The U.S. Department of Transportation (Department or DOT) is denying the requests to extend the comment period on the Department's Notice of Proposed Rulemaking (NPRM) on Traveling by Air with Service Animals. The NPRM was published in the Federal Register on February 5, 2020.

DATES: The closing date for comments on the NPRM published February 5, 2020 (85 FR 06448) on Traveling by Air with Service Animals is April 6, 2020.

ADDRESSES: You may review the requests to extend the public comment period and other comments received under Docket Number OST 2018-0068 through the Federal eRulemaking Portal at http://www.regulations.gov.

FOR FURTHER INFORMATION CONTACT: Maegan Johnson, Senior Attorney, Office of Aviation Enforcement and Proceedings, U.S. Department of Transportation, 1200 New Jersey Ave. SE, Washington, DC, 20590, 202-366-9342, 202-366-7152 (fax), maegan.johnson@dot.gov (email). You may also contact Blane Workie, Assistant General Counsel, Office of Aviation Enforcement and Proceedings, Department of Transportation, 1200 New Jersey Ave. SE, Washington, DC, 20590, 202-366-9342, 202-366-7152 (fax), blane.workie@dot.gov.

SUPPLEMENTARY INFORMATION: On January 22, 2020, the Department announced the issuance of the NPRM on Traveling by Air with Service Animals and placed a copy of the NPRM on the Department's website at https://www.transportation.gov/airconsumer/latest-news and on the Federal eRulemaking Portal at http://www.regulations.gov. On February 5, 2020, the NPRM was published in the Federal Register and interested parties were asked to provide comments on or before April 6, 2020. The NPRM also stated that late-filed comments will be considered to the extent practicable.

By written request, dated March 30, 2020, U.S. Support Animals asked the Department to extend the comment period on the NPRM by an additional 90 days to July 6, 2020. U.S. Support Animals asserts that numerous individuals with concerns about the NPRM have not yet commented because they have been focusing on altering their everyday routines in response to the Coronavirus Disease 2019 (COVID-19) public health emergency. Additionally, on April 2, 2020, the American Association of Airport Executives and Airports Council International—North America jointly requested a 30-day extension of the comment period, stating that the industry is consumed with responding to the COVID-19 public health emergency and that airports need this additional time to provide meaningful and substantive feedback on the Department's proposed rule.

The Department has carefully considered the requests to extend the comment period on the NPRM, beyond the published 60-day comment period, which is longer than the generally prescribed length of the comment period for significant regulations under the Department's rules at 49 CFR 5.13(i)(3). While the Department recognizes that COVID-19 has disrupted the lives of many Americans, the Department finds that the strong interest in the timely issuance of this priority rulemaking outweighs the need to provide the public with additional time to comment. The Department also notes that it has already received thousands of comments on the NPRM since its publication, including a steady stream of comments from the public while the country is responding to the COVID-19 public health emergency. For the reasons stated above, and given that the Department intends to consider late-filed comments to the extent practicable as indicated in the NPRM, the requests to extend the comment period on the Traveling by Air with Service Animals NPRM are denied.

Issued this 6th day of April 2020, in Washington, DC under authority delegated in 49 CFR 1.27(n).
Christina G. Aizcorbe,
Deputy General Counsel.

[FR Doc. 2020-07802 Filed 4-14-20; 8:45 am]

BILLING CODE 4910-9X-P